DEPARTMENT OF HEALTH AND HUMAN SERVICES

National Institutes of Health

National Institute of Environmental Health Sciences; Notice of Closed Meetings

Pursuant to section 10(d) of the Federal Advisory Committee Act, as amended (5 U.S.C. appendix 2), notice is hereby given of the following meetings.

The meetings will be closed to the public in accordance with the provisions set forth in sections 552b(c)(4) and 552b(c)(6), Title 5 U.S.C., as amended. The contract proposals and the discussions could disclose confidential trade secrets or commercial property such as patentable material, and personal information concerning individuals associated with the contract proposals, the disclosure of which would constitute a clearly unwarranted invasion of personal privacy.

Name of Committee: National Institute of Environmental Health Sciences Special Emphasis Panel RFA ES01-004—Mechanisms of Environmental Oxidative Stress and Dietary Modulation.

Date: June 27-29, 2001.

Time: 1 pm to 5 pm.

Agenda: To review and evaluate grant applications.

Place: Nat. Institute of Environmental Health Sciences, South Campus, Building 101, Conference Room B, Research Triangle Park, NC 27709.

Contact Person: Brenda K. Weis, PhD, Scientific Review Administrator, Scientific Review Branch, Division of Extramural Research and Training, Nat. Institutes of Environmental Health Sciences, P.O. Box 12233, MD/EC-30, Research Triangle Park, NC 27709, 919/541-4964.

Name of Committee: National Institute of Environmental Health Sciences Special Emphasis Panel RFP ES-01-05.

Date: June 29, 2001.

Time: 8:30 am to 5 pm.

Agenda: To review and evaluate contract proposals.

Place: Hawthorne Suites, 300 Meredith Drive, Durham, NC 27713.

Contact Person: Zoe E. Huang, MD, Scientific Review Administrator, Scientific Review Branch, Division of Extramural Research and Training, Nat. Institutes of Environmental Health Sciences, P.O. Box 12233, MD/EC-30, Research Triangle Park, NC 27709, 919/541-4964.

(Catalogue of Federal Domestic Assistance Program Nos. 93.113, Biological Response to Environmental Health Hazards; 93.114, Applied Toxicological Research and Testing; 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences, National Institutes of Health, HHS)

Dated: May 31, 2001.
LaVerne Y. Stringfield,
Director, Office of Federal Advisory Committee Policy.

[FR Doc. 01-14364 Filed 6-6-01; 8:45 am]

BILLING CODE 4140-01-M